DEPARTMENT OF JUSTICE

Notice of Lodging of Proposed Modification to Consent Decree Under the Clean Air Act

On June 11, 2013, the Department of Justice lodged a proposed Modification to the Consent Decree with the United States District Court for the District of Maryland in the lawsuit entitled United States v. American Sugar Refining, Inc. Civil Action No. JKB-12-1408.

The Consent Decree in this Clean Air Act enforcement action against American Sugar Refining, Inc. (“ASR”) resolves allegations by the Environmental Protection Agency, asserted in a complaint filed together with the Consent Decree, under section 113(b) of the Clean Air Act, 42 U.S.C. 7413(b), for alleged environmental violations at ASR's sugar refinery in Baltimore, Maryland. In addition to the payment of a $200,000 civil penalty, the settlement required ASR to perform injunctive relief to reduce emission of nitrogen oxides (NOX), including installing ultra low-NOX burners and meeting certain emission rate limits.

The proposed Modification to the Consent Decree provides additional time for ASR to install one of the ultra low-NOX burners and requires that ASR collect and submit certain data regarding NOX emissions. Further, the proposed Modification to the Consent Decree requires an additional reduction in annual NOX emissions.

The publication of this notice opens a period for public comment on the proposed Modification to the Consent Decree. Comments should be addressed to the Assistant Attorney General, Environment and Natural Resources Division, and should refer to United States v. American Sugar Refining, Inc., D.J. Ref. 90-5-2-1-09801.

All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Modification to the Consent Decree may be examined and downloaded at this Justice Department Web site: http://www.usdoj.gov/enrd/Consent_Decrees.html. We will provide a paper copy of the proposed Modification to the Consent Decree upon written request and payment of reproduction costs. Please mail your request and payment to: Consent Decree Library, U.S. DOJ—ENRD, P.O. Box 7611, Washington, DC 20044-7611.

Please enclose a check or money order for $0.75 (25 cents per page reproduction cost) payable to the United States Treasury.

Robert Brook,
Assistant Section Chief, Environmental Enforcement Section, Environment and Natural Resources Division.

[FR Doc. 2013-15243 Filed 6-25-13; 8:45 am]

BILLING CODE 4410-15-P